DEPARTMENT OF THE INTERIOR

National Park Service

Notice of Intent To Expand the Scope of the General Management Plan/Environmental Impact Statement Being Prepared for Everglades National Park

SUMMARY: The National Park Service (NPS) is expanding the scope of the General Management Plan (GMP)/Environmental Impact Statement (EIS) being prepared for Everglades National Park. As part of this planning effort, the NPS will include a wilderness study to determine if any portions of the East Everglades Expansion Area should be recommended for inclusion in the National Wilderness Preservation System as defined in the Wilderness Act of 1964. The study will be included as part of the GMP/EIS currently in preparation. The wilderness study will only address East Everglades, the 109,000 acres which were added to the park by the Everglades National Park Protection and Expansion Act of 1989.

A Notice of Intent to prepare an EIS for the GMP was originally published in the Federal Register of October 25, 2002 (Volume 67, Number 207). That EIS now will be expanded to include an evaluation of the impacts associated with possible designation of wilderness in East Everglades. This notice is being furnished under the National Environmental Policy Act regulations, 40 CFR 1501.7 and 1506.6.

To facilitate sound planning and analysis of environmental impact, the NPS is gathering information necessary for the preparation of the GMP, the wilderness study, and the associated EIS and is obtaining suggestions and information from other agencies and the public on the scope of issues to be addressed. Comments and participation in this scoping process are invited.

DATES: Open house meeting places and times will be announced by press release to print, radio and television organizations throughout South Florida including The Miami Herald, Naples Daily News and the South Florida Sun-Sentinel and on the park Web site at: www.nps.gov/ever.

ADDRESSES: Persons wishing to comment may do so by any one of several methods. They may attend open houses noted above. They may mail comments to Everglades National Park, Attention: Fred Herling, 40001 State Road 9336, Homestead, Florida 33034. They also may comment via the internet at http://parkplanning.nps.gov/. Finally, they may hand-deliver comments to the Everglades National Park headquarters in Homestead, Florida.

Our practice is to make comments, including names, home addresses, home phone numbers, and e-mail addresses of respondents, available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

FOR FURTHER INFORMATION CONTACT: Everglades National Park, 40001 State Road 9336, Homestead, FL 33034, 305-242-7704.

SUPPLEMENTARY INFORMATION: Persons who previously submitted comments on the scope of the EIS as it relates to the GMP need not resubmit those comments. The NPS already is considering that input as planning continues. However, persons who have not previously submitted comments on the scope of the EIS, or who wish to submit additional comments related to the scope of the EIS in consideration of the wilderness study are encouraged to do so.

The environmental review of the GMP, wilderness study, and EIS for Everglades National Park will be conducted in accordance with requirements of NEPA (42 U.S.C. 4371 et seq. and 40 CFR parts 1500-1508), other appropriate Federal regulations, and NPS procedures and policies for compliance with those regulations.

Authority: The authority for publishing this notice is 40 CFR 1506.6.

The responsible official for this draft GMP/EIS is the Regional Director for the Southeast Region, Patricia A. Hooks.

Patricia A. Hooks,
Regional Director, Southeast Region.

[FR Doc. 06-6734 Filed 8-4-06; 8:45 am]

BILLING CODE 4310-XH-M